COUNCIL OF THE INSPECTORS GENERAL ON INTEGRITY AND EFFICIENCY

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2013.

DATES: Effective October 1, 2013.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. The CIGIE is an interagency council whose executive chair is the Deputy Director for Management, Office of Management and Budget, and is comprised principally of the 73 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2013, are as follows:

Agency for International Development

Phone Number: (202) 712-1150.

CIGIE Liaison—Marcelle Davis (202) 712-1150.

Michael G. Carroll—Acting Inspector General.

Lisa Risley—Assistant Inspector General for Investigations.

Melinda Dempsey—Acting Assistant Inspector General for Audits.

Lisa McClennon—Deputy Assistant Inspector General for Investigations.

Alvin A. Brown—Deputy Assistant Inspector General for Audits.

Lisa Goldfluss—Legal Counsel to the Inspector General.

Department of Agriculture

Phone Number: (202) 720-8001.

CIGIE Liaison—Dina J. Barbour (202) 720-8001.

David R. Gray—Deputy Inspector General.

Christy A. Slamowitz—Counsel to the Inspector General.

Gilroy Harden—Assistant Inspector General for Audit.

Rodney G. DeSmet—Deputy Assistant Inspector General for Audit.

Tracy A. LaPoint—Deputy Assistant Inspector General for Audit.

Steven H. Rickrode, Jr.—Deputy Assistant Inspector General for Audit.

Karen L. Ellis—Assistant Inspector General for Investigations.

Kathy C. Horsley—Deputy Assistant Inspector General for Investigations.

Lane M. Timm- Assistant Inspector General for Management.

Department of Commerce

Phone Number: (202) 482-4661.

CIGIE Liaison—Justin Marsico (202) 482-9107.

Ann Eilers—Principal Assistant Inspector General for Audit and Evaluation.

Allen Crawley—Assistant Inspector General for Systems Acquisition and IT Security.

Andrew Katsaros—Assistant Inspector General for Audit.

Ronald C. Prevost—Assistant Inspector General for Economic and Statistical Program Assessment.

Department of Defense

Phone Number: (703) 604-8324.

CIGIE Liaison—David Gross (703) 604-8324.

Daniel R. Blair—Deputy Inspector General for Auditing.

James B. Burch—Deputy Inspector General for Investigations.

Alice F. Carey—Assistant Inspector General for Contract Management and Payments.

Carolyn R. Davis—Assistant Inspector General for Audit Policy and Oversight.

Amy J. Frontz—Principal Assistant Inspector General for Auditing.

Marguerite C. Garrison—Deputy Inspector General for Administrative Investigations.

Lynne M. Halbrooks—Principal Deputy Inspector General.

James R. Ives—Assistant Inspector General for Investigations, Investigative Operations.

Kenneth P. Moorefield—Deputy Inspector General for Special Plans and Operations.

James L. Pavlik—Assistant Inspector General for Investigative Policy and Oversight.

Henry C. Shelley Jr.—General Counsel.

Randolph R. Stone—Deputy Inspector General for Policy and Oversight.

Anthony C. Thomas—Deputy Inspector General for Intelligence and Special Program Assessments.

Ross W. Weiland—Assistant Inspector General for Investigations, Internal Operations.

Jacqueline L. Wicecarver—Assistant Inspector General for Acquisition and Spare Parts.

Stephen D. Wilson—Assistant Inspector General for Administration and Management.

Department of Education

Phone Number: (202) 245-6900.

CIGIE Liaison—Janet Harmon (202) 245-6076.

Wanda Scott—Assistant Inspector General for Management Services.

Patrick Howard—Assistant Inspector General for Audit.

William Hamel—Assistant Inspector General for Investigations.

Charles Coe—Assistant Inspector General for Information Technology Audits and Computer Crime Investigations.

Marta Erceg—Counsel to the Inspector General.

Department of Energy

Phone Number: (202) 586-4393.

CIGIE Liaison—Juston Fontaine (202) 586-1959.

John Hartman—Deputy Inspector General for Investigations.

Rickey Hass—Deputy Inspector General for Audits and Inspections.

Linda Snider—Deputy Inspector General for Management and Administration.

George Collard—Assistant Inspector General for Audits.

Daniel Weeber—Assistant Inspector General for Audits and Administration.

Sandra Bruce—Assistant Inspector General for Inspections.

Michael Milner—Assistant Inspector General for Investigations.

Virginia Grebasch—General Counsel.

Environmental Protection Agency

Phone Number: (202) 566-0847.

CIGIE Liaison—Jennifer Kaplan (202) 566-0918.

Charles Sheehan—Deputy Inspector General.

Aracely Nunez-Mattocks—Chief of Staff to the Inspector General.

Patrick Sullivan—Assistant Inspector General for Investigations.

Patricia Hill—Assistant Inspector General for Mission Systems.

Carolyn Copper—Assistant Inspector General for Program Evaluation.

General Services Administration

Phone Number: (202) 501-0450.

CIGIE Liaison—Sarah S. Breen (202) 219-1351.

Robert C. Erickson—Deputy Inspector General.

Richard P. Levi—Counsel to the Inspector General.

Theodore R. Stehney—Assistant Inspector General for Auditing.

Nick Goco, Deputy Assistant Inspector General for Real Property Audits.

James P. Hayes, Deputy Assistant Inspector General for Acquisition Programs Audits.

Geoffrey Cherrington—Assistant Inspector General for Investigations.

Lee Quintyne—Deputy Assistant Inspector General for Investigations

Larry L. Gregg—Associate Inspector General for Administration.

Department of Health and Human Services

Phone Number: (202) 619-3148.

CIGIE Liaison—Elise Stein (202) 619-2686.

Joanne Chiedi—Principal Deputy Inspector General.

Paul Johnson—Deputy Inspector General for Management and Policy.

Robert Owens, Jr.—Assistant Inspector General for Information Technology (Chief Information Officer).

Gary Cantrell—Deputy Inspector General for Investigations.

Tyler Smith—Assistant Inspector General for Investigations.

Les Hollie—Assistant Inspector General for Investigations.

Stuart E. Wright—Deputy Inspector General for Evaluation and Inspections.

Andrea Buck—Assistant Inspector General for Evaluation and Inspections.

Greg Demske—Deputy Inspector General for Legal Affairs.

Gloria Jarmon—Deputy Inspector General for Audit Services.

Kay Daly—Assistant Inspector General for Financial Management—Regional Operations.

Brian Ritchie—Assistant Inspector General for Healthcare Audits.

Department of Homeland Security

Phone Number: (202) 254-4100.

CIGIE Liaison—Erica Paulson (202) 254-0938.

Carlton I. Mann—Chief Operating Officer.

Russell Barbee—Assistant Inspector General for Management.

John Dupuy—Assistant Inspector General for Investigations.

D. Michael Beard—Assistant Inspector General for Integrity and Quality Oversight.

John Kelly—Assistant Inspector General for Emergency Management Oversight.

Anne L. Richards—Assistant Inspector General for Audits.

Frank W. Deffer—Assistant Inspector General for Information Technology Audits.

Mark Bell—Deputy Assistant Inspector General for Audits.

John E. McCoy II—Deputy Assistant Inspector General for Audits.

Louise M. McGlathery—Deputy Assistant Inspector General for Management.

James P. Gaughran—Deputy Assistant Inspector General for Emergency Management Oversight.

Wayne H. Salzgaber—Deputy Assistant Inspector General for Inspections.

Department of Housing and Urban Development

Phone Number: (202) 708-0430.

CIGIE Liaison—Holley Miller (202) 402-2741.

Lester Davis—Deputy Assistant Inspector General for Investigations.

Joe Clarke—Deputy Assistant Inspector General for Investigations.

Randy McGinnis—Assistant Inspector General for Audit.

Frank Rokosz—Deputy Assistant Inspector General for Audit.

Eddie Saffarinia—Assistant Inspector General for Management and Technology.

Department of the Interior

Phone Number: (202) 208-5745.

CIGIE Liaison—Joann Gauzza (202) 208-5745.

Stephen Hardgrove—Chief of Staff.

Kimberly Elmore—Assistant Inspector General for Audits, Inspections and Evaluations.

Robert Knox—Assistant Inspector General for Investigations.

Bruce Delaplaine—General Counsel.

Roderick Anderson—Assistant Inspector General for Management.

Department of Justice

Phone Number: (202) 514-3435.

CIGIE Liaison—Jay Lerner (202) 514-3435.

Cynthia Schnedar—Deputy Inspector General.

William M. Blier—General Counsel.

Raymond J. Beaudet—Assistant Inspector General for Audit.

Carol F. Ochoa—Assistant Inspector General for Oversight and Review.

Gregory T. Peters—Assistant Inspector General for Management and Planning.

George L. Dorsett—Assistant Inspector General for Investigations.

Department of Labor

Phone Number: (202) 693-5100.

CIGIE Liaison—Christopher Seagle (202) 693-5231.

Elliot P. Lewis—Assistant Inspector General for Audit.

Debra D. Pettitt—Deputy Assistant Inspector General for Audit.

Nancy F. Ruiz de Gamboa—Assistant Inspector General for Management and Policy.

Richard S. Clark II—Deputy Assistant Inspector General for Labor Racketeering.

Asa (Gene) Cunningham—Assistant Inspector General for Inspections and Special Investigations.

National Aeronautics and Space Administration

Phone Number: (202) 358-1230.

CIGIE Liaison—Renee Juhans (202) 358-1712.

Gail Robinson—Deputy Inspector General.

Frank LaRocca—Counsel to the Inspector General.

Kevin Winters—Assistant Inspector General for Investigations.

James Morrison—Assistant Inspector General for Audits.

Hugh Hurwitz—Assistant Inspector General for Management and Planning.

National Endowment for the Arts

Phone Number: (202) 682-5774.

CIGIE Liaison—Tonie Jones (202) 682-5402.

Tonie Jones—Inspector General.

National Science Foundation

Phone Number: (703) 292-7100.

CIGIE Liaison—Susan Carnohan (703) 292-5011 and Maury Pully (703) 292-5059.

Allison C. Lerner—Inspector General.

Brett M. Baker—Assistant Inspector General for Audit.

Alan Boehm—Assistant Inspector General for Investigations.

Kenneth Chason—Counsel to the Inspector General.

Nuclear Regulatory Commission

Phone Number: (301) 415-5930.

CIGIE Liaison—Deborah S. Huber (301) 415-5930.

David C. Lee—Deputy Inspector General.

Stephen D. Dingbaum—Assistant Inspector General for Audits.

Joseph A. McMillan—Assistant Inspector General for Investigations.

Office of Personnel Management

Phone Number: (202) 606-1200.

CIGIE Liaison—Joyce D. Price (202) 606-2156.

Norbert E. Vint—Deputy Inspector General.

Terri Fazio—Assistant Inspector General for Management.

Michael R. Esser—Assistant Inspector General for Audits.

Michelle B. Schmitz—Assistant Inspector General for Investigations.

J. David Cope—Assistant Inspector General for Legal Affairs.

Kimberly A. Howell—Deputy Assistant Inspector General for Investigations.

Melissa D. Brown—Deputy Assistant Inspector General for Audits.

Lewis F. Parker—Deputy Assistant Inspector General for Audits.

Jeffrey E. Cole—Senior Advisor to the Assistant Inspector General for Audits.

Peace Corps

Phone Number: (202) 692-2900.

CIGIE Liaison—Joaquin Ferrao (202) 692-2921.

Kathy Buller—Inspector General (Foreign Service).

United States Postal Service

Phone Number: (703) 248-2100.

CIGIE Liaison—Agapi Doulaveris (703) 248-2286.

Elizabeth Martin—General Counsel.

Gladis Griffith—Deputy General Counsel.

David Sidransky—Chief, Computer Crimes.

Mark Duda—Deputy Assistant Inspector General for Audits—Support Operations.

Larry Koskinen—Chief Technology Officer.

Railroad Retirement Board

Phone Number: (312) 751-4690.

CIGIE Liaison—Jill Roellig (312) 751-4993.

Patricia A. Marshall—Counsel to the Inspector General.

Diana Kruel—Assistant Inspector General for Audit.

Louis Rossignuolo—Assistant Inspector General for Investigations.

Small Business Administration

Phone Number: (202) 205-6586.

CIGIE Liaison—Robert F. Fisher (202) 205-6583 and Sheldon R. Shoemaker (202) 205-0080.

Robert A. Westbrooks—Deputy Inspector General.

Glenn P. Harris—Counsel to the Inspector General.

John K. Needham—Assistant Inspector General for Auditing.

Daniel J. O'Rourke—Assistant Inspector General for Investigations.

Robert F. Fisher—Assistant Inspector General for Management and Policy.

Social Security Administration

Phone Number: (410) 966-8385.

CIGIE Liaison—Kristin Klima (202) 358-6319.

Rona Lawson—Deputy Assistant Inspector General for Audit.

B. Chad Bungard—Counsel to the Inspector General.

Steve Mason—Deputy Assistant Inspector General for Investigations.

Michael Robinson—Assistant Inspector General for Technology and Resource Management.

Special Inspector General for Troubled Asset Relief Program

Phone Number: (202) 622-2658.

CIGIE Liaison—(202) 622-2658.

Peggy Ellen—Deputy Special Inspector General.

Scott Rebein—Deputy Special Inspector General, Investigations.

Roderick Fillinger- General Counsel.

Cathy Alix—Deputy Special Inspector General, Operations.

Mia Levine—Deputy Special Inspector General, Reporting Office.

Department of State and the Broadcasting Board of Governors

Phone Number: (202) 663-0361.

CIGIE Liaison—Charles “Dean” McCoy (703) 284-1828.

Erich O. Hart—General Counsel.

Robert B. Peterson—Assistant Inspector General for Inspections.

Anna Gershman—Assistant Inspector General for Investigations.

Norman P. Brown—Acting Inspector General for Audits.

Carol N. Gorman—Deputy Assistant Inspector General for Middle East Regional Office.

Department of Transportation

Phone Number: (202) 366-1959.

CIGIE Liaison—Nathan P. Richmond (202) 366-1959.

Calvin L. Scovel III—Inspector General.

Ann M. Calvaressi Barr—Deputy Inspector General.

Brian A. Dettelbach—Assistant Inspector General for Legal, Legislative, and External Affairs.

Susan L. Dailey—Assistant Inspector General for Administration.

Timothy M. Barry—Principal Assistant Inspector General for Investigations.

Lou E. Dixon—Principal Assistant Inspector General for Auditing and Evaluation.

Jeffrey B. Guzzetti—Assistant Inspector for Aviation Audits.

Matthew E. Hampton—Deputy Assistant Inspector General for Aviation Audits.

Louis King—Assistant Inspector General for Financial and Information Technology Audits.

Joseph W. Comé—Assistant Inspector General for Highway and Transit Audits.

Thomas Yatsco—Deputy Assistant Inspector General for Highway and Transit Audits.

Mitchell L. Behm—Assistant Inspector General for Rail, Maritime and Hazmat Transport Audits, and Economic Analysis.

Mary Kay Langan-Feirson—Assistant Inspector General for Acquisition and Procurement Audits.

Department of the Treasury

Phone Number: (202) 622-1090.

CIGIE Liaison—Tricia Hollis (202) 927-5835.

Richard K. Delmar—Counsel to the Inspector General.

Debra Ritt—Special Deputy IG for Small Business Lending Fund Program Oversight.

Tricia Hollis—Assistant Inspector General for Management.

Marla A. Freedman—Assistant Inspector General for Audit.

Robert A. Taylor—Deputy Assistant Inspector General for Audit (Program Audits).

Treasury Inspector General for Tax Administration/Department of the Treasury

Phone Number: (202) 622-6500.

CIGIE Liaison— Mathew Sutphen (202) 622-6500.

Michael A Phillips—Acting Principal Deputy Inspector General.

Michael McKenney—Acting Deputy Inspector General for Audit.

Michael Delgado—Assistant Inspector General for Investigations.

Alan Duncan—Assistant Inspector General for Audit (Security & Information Technology Services).

David Holmgren—Deputy Inspector General for Inspections and Evaluations.

Timothy Camus—Deputy Inspector General for Investigations.

Margaret Begg—Acting Associate Inspector General for Mission Support.

Nancy Nakamura—Assistant Inspector General for Audit (Management Planning and Workforce Development).

Greg Kutz—Assistant Inspector General for Audit (Management Services & Exempt Organizations).

Randy Silvis—Deputy Assistant Inspector General for Investigations.

Gladys Hernandez—Deputy Chief Counsel.

Michael McCarthy—Chief Counsel.

George Jakabcin—Chief Information Officer.

Department of Veterans Affairs

Phone Number: (202) 461-4720.

CIGIE Liaison—Joanne Moffett (202) 461-4720.

Maureen Regan—Counselor to the Inspector General.

James O'Neill—Assistant Inspector General for Investigations.

Joseph Vallowe—Deputy Assistant Inspector General for Investigations (HQs Operations).

Linda Halliday—Assistant Inspector General for Audits and Evaluations.

Sondra McCauley—Deputy Assistant Inspector General for Audits and Evaluations (HQs Management and Inspections).

Dana Moore—Assistant Inspector General for Management and Administration.

John Daigh—Assistant Inspector General for Healthcare Inspections.

Patricia Christ—Deputy Assistant Inspector General for Healthcare Inspections.

Dated: August 20, 2013.
Mark D. Jones,
Executive Director.

[FR Doc. 2013-20661 Filed 8-22-13; 8:45 am]

BILLING CODE 6820-C9-P